DEPARTMENT OF VETERANS AFFAIRS

Advisory Committee on Former Prisoners of War; Notice of Meeting

The Department of Veterans Affairs (VA) gives notice under the Federal Advisory Committee Act, 5 U.S.C., App. 2, that the Advisory Committee on Former Prisoners of War (FPOW) will meet January 30-February 1, 2017, from 9:00 a.m.-4:00 p.m. CST at the Audie Murphy VA Medical Center, 7400 Merton Minter Street, San Antonio, TX. Sessions are open to the public, except when the Committee is conducting a tour of VA facilities. Tours of VA facilities are closed, to protect Veterans' privacy and personal information, in accordance with 5 U.S.C. 552b(c)(6).

The purpose of the Committee is to advise the Secretary of Veterans Affairs on the administration of benefits under Title 38 U.S.C., for Veterans who are FPOWs, and to make recommendations on the needs of such Veterans for compensation, health care, and rehabilitation.

On Monday, January 30, the Committee will convene an open session to recognize new members and hear briefings from 9:00 a.m. to 2:30 p.m. From 2:30 p.m. to 4:00 p.m., the Committee will convene a closed session in order to protect patient privacy as the Committee tours the Audie Murphy VA Medical Center. On Tuesday, January 31, the Committee will assemble in open session from 9:00 a.m. to 4:00 p.m. for discussion and briefings from Veterans Benefits Administration (VBA) and Veterans Health Administration (VHA) officials. On Wednesday, February 1, 2017, the Committee will conduct an open session from 9:00 a.m. to 11:00 a.m. From 11:00 a.m. to 12:00 p.m., the Committee will convene a closed session for discussion of committee issues. At 12:00 p.m., the committee meeting will be formally adjourned.

Public participation will commence as follows:

Date | Time | Open session
January 30, 2017 | 9:00 a.m.-2:30 p.m | Yes.
| 2:30 p.m.-4:00 p.m | No*.
January 31, 2017 | 9:00 a.m.-4:30 p.m | Yes.
February 1, 2017 | 9:00 a.m.-11:00 a.m | Yes.
| No
* Public access will be restricted to protect patient privacy.

FPOWs who wish to speak at the public forum are invited to submit a 1-2 page commentary for inclusion in official meeting records. Members of the public may also submit a 1-2 page commentary for the Committee's review. Any member of the public wishing to attend the meeting or seeking additional information should contact Ms. Leslie N. Williams, Designated Federal Officer, Advisory Committee on Former Prisoners of War. Ms. Williams contact information is Leslie.Williams@va.gov or via phone at (202) 530-9219.

Because the meeting is being held in a government building, a photo I.D. must be presented at the security desk as a part of the clearance process. Due to an increase in security protocols, and in order to prevent delays in clearance processing, you should allow an additional 15 minutes before the meeting begins.

Dated: January 5, 2017.
LaTonya L. Small,
Federal Advisory Committee Management Officer.

[FR Doc. 2017-00235 Filed 1-9-17; 8:45 am]

BILLING CODE P